DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the intention of the Foreign Agricultural Service (FAS) to request an extension from the Office of Management and Budget (OMB) of a currently approved information collection in support of the foreign donation of agricultural commodities under the section 416(b) program, the Food for Progress Program, and the McGovern-Dole International Food for Education and Child Nutrition Program.

DATES: Comments on this notice must be received by October 30, 2023.

ADDRESSES: You may send comments by any of the following methods:

• Federal eRulemaking Portal: http://www.regulations.gov. This portal enables respondents to enter short comments or attach a file containing lengthier comments.

• Email: Shane.Danielson@USDA.gov. Include OMB Control Number 0551-0035 in the subject line of the message.

• Mail, Courier, or Hand Delivery: Shane Danielson, Senior Director, International Food Assistance Division, Foreign Agricultural Service, U.S. Department of Agriculture, Stop 1034, Washington, DC 20250-1034.

Instructions: All submissions must be identified by the OMB Control Number 0551-0035 and include the name of the agency, the Foreign Agricultural Service.

FOR FURTHER INFORMATION CONTACT: Shane Danielson, Senior Director, International Food Assistance Division, Foreign Agricultural Service, U.S. Department of Agriculture, Stop 1034, Washington, DC 20250-1034; or by email at Shane.Danielson@USDA.gov; or by telephone at (202) 720-1230.

SUPPLEMENTARY INFORMATION:

Title: Foreign Donation of Agricultural Commodities (section 416(b) and Food for Progress programs) and McGovern-Dole International Food for Education and Child Nutrition Program.

OMB Number: 0551-0035.

Expiration Date of Approval: April 30, 2024.

Type of Request: Extension of a currently approved information collection.

Abstract: Under the section 416(b) and Food for Progress programs (the “Foreign Donation Programs”) and the McGovern-Dole International Food for Education and Child Nutrition (“McGovern-Dole”) Program, information will be gathered from applicants desiring to receive federal awards under the programs to determine the viability of requests for resources to implement activities in foreign countries. Recipients of awards under the programs must submit compliance reports and other information until activities carried out with donated commodities or funds, or local currencies generated from the sale of donated commodities, are completed. Recipients that use the services of freight forwarders must submit certifications from the freight forwarders regarding their activities and affiliations. Documents are used to develop effective grant and cooperative agreements for awards under the programs and assure that statutory requirements and objectives are met.

Estimate of Burden: The public reporting burden for each respondent resulting from information collections under the Foreign Donation Programs or the McGovern-Dole Program varies in direct relation to the number and type of agreements entered into by such respondent. The estimated average reporting burden for the Foreign Donation Programs is 45.74 hours per response and for the McGovern-Dole Program is 45.74 hours per response.

Respondents: Private voluntary organizations, cooperatives, colleges and universities, foreign governments, intergovernmental organizations, freight forwarders, ship owners and brokers, and survey companies.

Estimated Number of Respondents: 61 per annum.

Estimated Number of Responses per Respondent: 32 per annum.

Estimated Total Annual Burden: 89,284.5 hours.

Copies of this information collection may be obtained from Dacia Rogers, the Agency Information Collection Coordinator, at Dacia.Rogers@usda.gov.

Request for Comments: Send comments regarding (a) whether the information to be collected is necessary for the proper performance of the functions of the agency, including whether the information will have practical utility; (b) the accuracy of the agency's estimate of the burden of the collection of information, including the validity of the methodology and assumptions used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be made available without change, including any personal information provided, for inspection online at http://www.regulations.gov and at 1400 Independence Avenue SW, Room 6648, Washington, DC 20250, between 8:00 a.m. and 4:30 p.m., Monday through Friday, except holidays. Comments will be summarized and included in the submission for OMB approval.

Persons with disabilities who require an alternative means for communication of information (Braille, large print, audiotape, etc.) should contact RARequest@usda.gov.

Daniel Whitley,
Administrator, Foreign Agricultural Service.

[FR Doc. 2023-18773 Filed 8-30-23; 8:45 am]

BILLING CODE 3410-10-P